OFFICE OF PERSONNEL MANAGEMENT

5 CFR Part 532

RIN 3206-AL63

Prevailing Rate Systems; Change in Nonappropriated Fund Federal Wage System Survey Schedule From Fiscal Year to Calendar Year

AGENCY: U.S. Office of Personnel Management.

ACTION: Proposed rule with request for comments.

SUMMARY: The U.S. Office of Personnel Management is issuing a proposed rule to change the annual schedule of nonappropriated fund (NAF) Federal Wage System wage surveys from a fiscal year cycle to a calendar year cycle. The purpose of this change is to move certain wage surveys to a different time of year and thus optimize the data collection process for those areas. In addition, this change would more evenly distribute the workload for the agency responsible for conducting NAF surveys.

DATES: We must receive comments on or before June 27, 2008.

ADDRESSES: Send or deliver comments to Charles D. Grimes III, Deputy Associate Director for Performance and Pay Systems, Strategic Human Resources Policy Division, U.S. Office of Personnel Management, Room 7H31, 1900 E Street, NW., Washington, DC 20415-8200; e-mail pay-performance-policy@opm.gov; or FAX: (202) 606-4264.

FOR FURTHER INFORMATION CONTACT: Madeline Gonzalez, (202) 606-2838; e-mail pay-performance-policy@opm.gov; or FAX: (202) 606-4264.

SUPPLEMENTARY INFORMATION: As required by law, Federal Wage System (FWS) wage surveys must be conducted on a 2-year cycle at annual intervals in each appropriated and nonappropriated fund (NAF) FWS wage area. A full-scale wage survey is conducted in the first year of the 2-year cycle and an interim (wage-change) survey is conducted between each two consecutive full-scale wage surveys. The U.S. Office of Personnel Management (OPM) is responsible for prescribing the beginning month of appropriated and NAF wage surveys and the fiscal year during which full-scale wage surveys are conducted.

This proposed rule would change the nationwide schedule of NAF regular wage surveys at appendix B to subpart B of part 532 of title 5, Code of Federal Regulations, from a fiscal year cycle to a calendar year cycle. Since a Federal fiscal year straddles two calendar years (i.e., October to September) and only some NAF wage surveys are conducted in the first part of the fiscal year, not all NAF wage areas would be affected by this change. In addition, the lead agency does not need to change the timing of all NAF surveys because many are already conducted at the optimum time, considering agency resources and timing of private sector pay adjustments. Therefore, about one-third of the NAF wage areas would experience no change in the timing of their wage surveys. In the remaining NAF wage areas, the changes in survey schedule would vary from wage area to wage area. In some of the remaining NAF wage areas the wage surveys would be conducted earlier in the year and in others the wage surveys would be conducted later in the year. We note that the adjustment period for this change would be lengthy and some wage areas would require multiple surveys to comply with the 2-year cycle law. However, changing to a calendar year cycle would significantly simplify the scheduling of NAF surveys.

The Federal Prevailing Rate Advisory Committee, the national labor-management committee responsible for advising OPM on matters concerning the pay of FWS employees, recommended by consensus that we adopt this change. This change would be effective in January 2009.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
Linda M. Springer,
Director.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

2. In appendix B to subpart B, revise paragraph (3) and the table to read as follows:

Appendix B to Subpart B of Part 532—Nationwide Schedule of Nonappropriated Fund Regular Wage Surveys

* * * * *

(3) Whether full-scale surveys will be conducted in odd or even numbered calendar years.

State | Wage area | Beginning month of survey | Calendar year of full-scale survey odd or even
Alabama | Calhoun | April | Even.
| Madison | April | Even.
| Montgomery | April | Odd.
Alaska | Anchorage | June | Even.
Arizona | Maricopa | October | Even.
| Pima | October | Even.
| Yuma | October | Even.
Arkansas | Pulaski | April | Odd.
California | Kern | September | Odd.
| Los Angeles | September | Even.
| Monterey | September | Odd.
| Orange | September | Even.
| Riverside | September | Even.
| Sacramento | February | Odd.
| San Bernardino | September | Even.
| San Diego | September | Odd.
| San Joaquin | February | Odd.
| Santa Barbara | September | Even.
| Santa Clara | September | Odd.
| Solano | September | Odd.
| Ventura | September | Even.
Colorado | Arapahoe-Denver | July | Even.
| El Paso | July | Even.
Connecticut | New London | July | Even.
Delaware | Kent | August | Odd.
District of Columbia | Washington, DC | August | Even.
Florida | Bay | January | Even.
| Brevard | January | Odd.
| Miami-Dade | January | Odd.
| Duval | January | Odd.
| Escambia | January | Even.
| Hillsborough | January | Odd.
| Monroe | January | Odd.
| Okaloosa | January | Even.
| Orange | January | Even.
Georgia | Chatham | March | Odd.
| Clayton-Cobb-Fulton | June | Odd.
| Columbus | June | Odd.
| Dougherty | March | Odd.
| Houston | April | Odd.
| Lowndes | March | Odd.
| Richmond | April | Odd.
Guam | Guam | September | Even.
Hawaii | Honolulu | May | Even.
Idaho | Ada-Elmore | July | Odd.
Illinois | Lake | April | Even.
| St. Clair | April | Even.
Kansas | Leavenworth-Jackson-Johnson | April | Even.
| Sedgwick | April | Odd.
Kentucky | Christian-Montgomery | February | Even.
| Hardin-Jefferson | March | Even.
Louisiana | Bossier-Caddo | March | Odd.
| Orleans | June | Odd.
| Rapides | March | Odd.
Maine | Cumberland | October | Odd.
| York | October | Odd.
Maryland | Anne Arundel | August | Even.
| Charles-St. Mary's | August | Even.
| Frederick | August | Even.
| Harford | May | Even.
| Montgomery-Prince George's | August | Even.
Massachusetts | Hampden | October | Odd.
| Middlesex | October | Odd.
Michigan | Macomb | May | Odd.
Minnesota | Hennepin | July | Odd.
Mississippi | Harrison | March | Even.
| Lauderdale | March | Odd.
| Lowndes | March | Odd.
Montana | Cascade | July | Odd.
Nebraska | Douglas-Sarpy | April | Even.
Nevada | Churchill-Washoe | January | Even.
| Clark | January | Even.
New Jersey | Burlington | August | Odd.
| Monmouth | August | Odd.
| Morris | August | Odd.
New Mexico | Bernalillo | February | Odd.
| Curry | June | Odd.
| Dona Ana | February | Odd.
New York | Jefferson | May | Odd.
| Kings-Queens | October | Even.
| Niagara | May | Odd.
| Orange | May | Odd.
North Carolina | Craven | March | Even.
| Cumberland | March | Even.
| Onslow | February | Even.
| Wayne | March | Even.
North Dakota | Grand Forks | July | Odd.
| Ward | July | Odd.
Ohio | Greene-Montgomery | April | Odd.
Oklahoma | Comanche | March | Even.
| Oklahoma | March | Even.
Pennsylvania | Allegheny | May | Odd.
| Cumberland | May | Even.
| Montgomery | August | Odd.
| York | May | Even.
Puerto Rico | Guaynabo-San Juan | February | Even.
Rhode Island | Newport | July | Even.
South Carolina | Charleston | February | Even.
| Richland | March | Even.
South Dakota | Pennington | June | Even.
Tennessee | Shelby | February | Even.
Texas | Bell | June | Odd.
| Bexar | June | Even.
| Dallas | June | Even.
| El Paso | February | Odd.
| McLennan | May | Odd.
| Nueces | June | Even.
| Tarrant | June | Even.
| Taylor | June | Odd.
| Tom Green | June | Odd.
| Wichita | March | Even.
Utah | Davis-Salt Lake-Weber | July | Odd.
Virginia | Alexandria-Arlington-Fairfax | August | Even.
| Chesterfield-Richmond | August | Odd.
| Hampton-Newport News | May | Even.
| Norfolk-Portsmouth-Virginia Beach | May | Even.
| Prince William | August | Even.
Washington | Kitsap | June | Even.
| Pierce | July | Even.
| Snohomish | July | Even.
| Spokane | July | Odd.
Wyoming | Laramie | July | Even.

* * * * *

[FR Doc. E8-11838 Filed 5-27-08; 8:45 am]

BILLING CODE 6325-39-P